DEPARTMENT OF COMMERCE

[I.D. 070901G]

Submission for OMB Review; Comment Request

The Department of Commerce (D0C) has submitted to the Office of Management and Budget (OMB) for clearance the following proposal for collection of information under the provisions of the Paperwork Reduction Act (44 U.S.C. Chapter 35).

Agency: National Oceanic and Atmospheric Administration (NOAA).

Title: Tag Recapture Card.

Form Number(s): None.

OMB Approval Number: 0648-0259.

Type of Request: Regular submission.

Burden Hours: 8.

Number of Respondents: 240.

Average Hours Per Response: 2 minutes.

Needs and Uses: The Cooperative Gamefish Tagging Program was established to determine the migratory patterns of and other biological information about billfish, tunas, red drum, and numerous other species. An essential part of the tagging program is for fishermen catching tagged fish to voluntarily report on when and where the catch took place, the size and weight of the fish, and similar information. The information resulting from the tagging program is used to help make management decisions.

Affected Public: Individuals and households.

Frequency: On occasion.

Respondent's Obligation: Voluntary.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: July 6, 2001.
Madeleine Clayton,
Departmental Paperwork Clearance Officer, Office of the Chief Information Officer.

[FR Doc. 01-17578 Filed 7-12-01; 8:45 am]

BILLING CODE 3510-22-S